DEPARTMENT OF TRANSPORTATION

Federal Motor Carrier Safety Administration

[Docket No. FMCSA-1999-6156; FMCSA-1999-6480; FMCSA-2003-16241; FMCSA-2003-16564; FMCSA-2005-22194; FMCSA-2005-22727; FMCSA-2005-23099; FMCSA-2005-23238; FMCSA-2006-23773; FMCSA-2007-0017; FMCSA-2007-0071; FMCSA-2007-27897; FMCSA-2009-0011; FMCSA-2009-0206; FMCSA-2009-0291; FMCSA-2009-0321; FMCSA-2011-0142; FMCSA-2011-0275; FMCSA-2011-0298; FMCSA-2011-0324; FMCSA-2011-0365; FMCSA-2011-0366; FMCSA-2011-0378; FMCSA-2013-0028; FMCSA-2013-0165; FMCSA-2013-0166; FMCSA-2013-0167; FMCSA-2013-0168; FMCSA-2013-0169; FMCSA-2013-0170; FMCSA-2013-0174; FMCSA-2014-0002; FMCSA-2015-0070; FMCSA-2015-0071; FMCSA-2015-0072; FMCSA-2015-0344; FMCSA-2015-0345; FMCSA-2015-0348; FMCSA-2015-0350; FMCSA-2015-0351]

Qualification of Drivers; Exemption Applications; Vision

AGENCY: Federal Motor Carrier Safety Administration (FMCSA), DOT.

ACTION: Notice of renewal of exemptions; request for comments.

SUMMARY: FMCSA announces its decision to renew exemptions for 113 individuals from the vision requirement in the Federal Motor Carrier Safety Regulations (FMCSRs) for interstate commercial motor vehicle (CMV) drivers. The exemptions enable these individuals to continue to operate CMVs in interstate commerce without meeting the vision requirements in one eye.

DATES: Each group of renewed exemptions were applicable on the dates stated in the discussions below and will expire on the dates stated in the discussions below. Comments must be received on or before May 9, 2018.

ADDRESSES: You may submit comments bearing the Federal Docket Management System (FDMS) Docket No. FMCSA-1999-6156; FMCSA-1999-6480; FMCSA-2003-16241; FMCSA-2003-16564; FMCSA-2005-22194; FMCSA-2005-22727; FMCSA-2005-23099; FMCSA-2005-23238; FMCSA-2006-23773; FMCSA-2007-0017; FMCSA-2007-0071; FMCSA-2007-27897; FMCSA-2009-0011; FMCSA-2009-0206; FMCSA-2009-0291; FMCSA-2009-0321; FMCSA-2011-0142; FMCSA-2011-0275; FMCSA-2011-0298; FMCSA-2011-0324; FMCSA-2011-0365; FMCSA-2011-0366; FMCSA-2011-0378; FMCSA-2013-0028; FMCSA-2013-0165; FMCSA-2013-0166; FMCSA-2013-0167; FMCSA-2013-0168; FMCSA-2013-0169; FMCSA-2013-0170; FMCSA-2013-0174; FMCSA-2014-0002; FMCSA-2015-0070; FMCSA-2015-0071; FMCSA-2015-0072; FMCSA-2015-0344; FMCSA-2015-0345; FMCSA-2015-0348; FMCSA-2015-0350; FMCSA-2015-0351 using any of the following methods:

• Federal eRulemaking Portal: Go to http://www.regulations.gov. Follow the online instructions for submitting comments.

• Mail: Docket Management Facility; U.S. Department of Transportation, 1200 New Jersey Avenue SE, West Building Ground Floor, Room W12-140, Washington, DC 20590-0001.

• Hand Delivery: West Building Ground Floor, Room W12-140, 1200 New Jersey Avenue SE, Washington, DC, between 9 a.m. and 5 p.m., e.t., Monday through Friday, except Federal Holidays.

• Fax: 1-202-493-2251.

Instructions: Each submission must include the Agency name and the docket number(s) for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE, Washington, DC, between 9 a.m. and 5 p.m., e.t., Monday through Friday, except Federal holidays. The FDMS is available 24 hours each day, e.t., 365 days each year. If you want acknowledgment that we received your comments, please include a self-addressed, stamped envelope or postcard or print the acknowledgement page that appears after submitting comments online.

Privacy Act: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

FOR FURTHER INFORMATION CONTACT: Ms. Christine A. Hydock, Chief, Medical Programs Division, 202-366-4001, fmcsamedical@dot.gov, FMCSA, Department of Transportation, 1200 New Jersey Avenue SE, Room W64-224, Washington, DC 20590-0001. Office hours are from 8:30 a.m. to 5 p.m., e.t., Monday through Friday, except Federal holidays. If you have questions regarding viewing or submitting material to the docket, contact Docket Services, telephone (202) 366-9826.

SUPPLEMENTARY INFORMATION:

I. Background

Under 49 U.S.C. 31136(e) and 31315, FMCSA may grant an exemption for five years if it finds “such exemption would likely achieve a level of safety that is equivalent to or greater than the level that would be achieved absent such exemption.” The statute also allows the Agency to renew exemptions at the end of the five-year period. FMCSA grants exemptions from the FMCSRs for a two-year period to align with the maximum duration of a driver's medical certification.

The physical qualification standard for drivers regarding vision found in 49 CFR 391.41(b)(10) states that a person is physically qualified to drive a CMV if that person has distant visual acuity of at least 20/40 (Snellen) in each eye without corrective lenses or visual acuity separately corrected to 20/40 (Snellen) or better with corrective lenses, distant binocular acuity of a least 20/40 (Snellen) in both eyes with or without corrective lenses, field of vision of at least 70° in the horizontal meridian in each eye, and the ability to recognize the colors of traffic signals and devices showing red, green, and amber.

The 113 individuals listed in this notice have requested renewal of their exemptions from the vision standard in 49 CFR 391.41(b)(10), in accordance with FMCSA procedures. Accordingly, FMCSA has evaluated these applications for renewal on their merits and decided to extend each exemption for a renewable two year period.

II. Request for Comments

Interested parties or organizations possessing information that would otherwise show that any, or all, of these drivers are not currently achieving the statutory level of safety should immediately notify FMCSA. The Agency will evaluate any adverse evidence submitted and, if safety is being compromised or if continuation of the exemption would not be consistent with the goals and objectives of 49 U.S.C. 31136(e) and 31315, FMCSA will take immediate steps to revoke the exemption of a driver.

III. Basis for Renewing Exemptions

Under 49 U.S.C. 31315(b)(1), an exemption may be granted for no longer than two years from its approval date and may be renewed upon application. In accordance with 49 U.S.C. 31136(e) and 31315, each of the 113 applicants has satisfied the renewal conditions for obtaining an exemption from the vision requirement (64 FR 54948; 64 FR 68195; 65 FR 159; 65 FR 20251; 67 FR 10475; 67 FR 17102; 68 FR 61857; 68 FR 74699; 68 FR 75715; 69 FR 8260; 69 FR 10503; 69 FR 17267; 70 FR 57353; 70 FR 71884; 70 FR 72689; 71 FR 644; 71 FR 4194; 71 FR 4632; 71 FR 5105; 71 FR 6824; 71 FR 6829; 71 FR 6826; 71 FR 13450; 71 FR 16410; 71 FR 19600; 71 FR 19602; 72 FR 39879; 72 FR 52422; 72 FR 62897; 72 FR 67340; 72 FR 71995; 73 FR 1395; 73 FR 5259; 73 FR 6242; 73 FR 8392; 73 FR 9158; 73 FR 11989; 73 FR 15254; 73 FR 16950; 74 FR 43217; 74 FR 49069; 74 FR 57551; 74 FR 60021; 74 FR 65842; 74 FR 65845; 74 FR 65847; 75 FR 1451; 75 FR 1835; 75 FR 8184; 75 FR 9477; 75 FR 9480; 75 FR 9482; 75 FR 9484; 75 FR 13653; 75 FR 20881; 75 FR 22176; 76 FR 49528; 76 FR 61143; 76 FR 64164; 76 FR 66123; 76 FR 70210; 76 FR 70213; 76 FR 75942; 76 FR 78728; 76 FR 79760; 77 FR 541; 77 FR 545; 77 FR 3547; 77 FR 3552; 77 FR 5874; 77 FR 7233; 77 FR 7657; 77 FR 10604; 77 FR 10606; 77 FR 13689; 77 FR 13691; 77 FR 17107; 77 FR 17108; 77 FR 17115; 77 FR 17117; 77 FR 17119; 77 FR 19749; 77 FR 22059; 77 FR 22838; 78 FR 27281; 78 FR 41188; 78 FR 47818; 78 FR 62935; 78 FR 63302; 78 FR 63307; 78 FR 64271; 78 FR 64274; 78 FR 66099; 78 FR 67452; 78 FR 67454; 78 FR 67455; 78 FR 74223; 78 FR 76395; 78 FR 76704; 78 FR 76705; 78 FR 77778; 78 FR 77780; 78 FR 77782; 78 FR 78475; 79 FR 1908; 79 FR 2247; 79 FR 2748; 79 FR 4803; 79 FR 4805; 79 FR 6993; 79 FR 10602; 79 FR 10606; 79 FR 10607; 79 FR 10608; 79 FR 10609; 79 FR 10610; 79 FR 10611; 79 FR 10619; 79 FR 12565; 79 FR 13085; 79 FR 14328; 79 FR 14331; 79 FR 14332; 79 FR 14333; 79 FR 15794; 79 FR 17641; 79 FR 17642; 79 FR 17643; 79 FR 18390; 79 FR 18391; 79 FR 22003; 80 FR 33007; 80 FR 63869; 80 FR 67472; 80 FR 67476; 80 FR 67481; 80 FR 70060; 80 FR 76345; 80 FR 79414; 80 FR 80443; 81 FR 6573; 81 FR 11642; 81 FR 14190; 81 FR 15401; 81 FR 15404; 81 FR 16265; 81 FR 17237; 81 FR 20433; 81 FR 20435; 81 FR 28136; 81 FR 28138; 81 FR 39100; 81 FR 44680; 81 FR 52516; 81 FR 60117). They have submitted evidence showing that the vision in the better eye continues to meet the requirement specified at 49 CFR 391.41(b)(10) and that the vision impairment is stable. In addition, a review of each record of safety while driving with the respective vision deficiencies over the past two years indicates each applicant continues to meet the vision exemption requirements. These factors provide an adequate basis for predicting each driver's ability to continue to drive safely in interstate commerce. Therefore, FMCSA concludes that extending the exemption for each renewal applicant for a period of two years is likely to achieve a level of safety equal to that existing without the exemption.

In accordance with 49 U.S.C. 31136(e) and 31315, the following groups of drivers received renewed exemptions in the month of April and are discussed below:

As of April 12, 2018, and in accordance with 49 U.S.C. 31136(e) and 31315, the following 58 individuals have satisfied the renewal conditions for obtaining an exemption from the vision requirement in the FMCSRs for interstate CMV drivers (68 FR 7469; 68 FR 61857; 68 FR 74699; 68 FR 75715; 69 FR 10503; 70 FR 57353; 70 FR 71884; 70 FR 72689; 71 FR 644; 71 FR 4194; 71 FR 4632; 71 FR 6829; 71 FR 13450; 72 FR 39879; 72 FR 52422; 72 FR 62897; 72 FR 67340; 72 FR 71995; 73 FR 1395; 73 FR 5259; 73 FR 6242; 73 FR 8392; 73 FR 9158; 73 FR 16950; 74 FR 43217; 74 FR 49069; 74 FR 57551; 74 FR 60021; 74 FR 65842; 74 FR 65845; 74 FR 65847; 75 FR 1451; 75 FR 8184; 75 FR 9477; 75 FR 9482; 75 FR 9484; 76 FR 49528; 76 FR 61143; 76 FR 64164; 76 FR 66123; 76 FR 70210; 76 FR 70213; 76 FR 75942; 76 FR 78728; 76 FR 79760; 77 FR 541; 77 FR 545; 77 FR 3547; 77 FR 3552; 77 FR 5874; 77 FR 7233; 77 FR 7657; 77 FR 10604; 77 FR 10606; 77 FR 13689; 77 FR 13691; 77 FR 17117; 77 FR 17119; 77 FR 22059; 78 FR 27281; 78 FR 41188; 78 FR 47818; 78 FR 62935; 78 FR 63302; 78 FR 63307; 78 FR 64271; 78 FR 64274; 78 FR 66099; 78 FR 67452; 78 FR 67454; 78 FR 67455; 78 FR 74223; 78 FR 76395; 78 FR 76704; 78 FR 76705; 78 FR 77778; 78 FR 77780; 78 FR 77782; 78 FR 78475; 79 FR 1908; 79 FR 2247; 79 FR 2748; 79 FR 4803; 79 FR 4805; 79 FR 6993; 79 FR 10602; 79 FR 10619; 79 FR 12565; 79 FR 13085; 79 FR 14328; 79 FR 14331; 79 FR 14332; 79 FR 14333; 79 FR 18390; 80 FR 33007; 80 FR 63869; 80 FR 67472; 80 FR 67476; 80 FR 67481; 80 FR 70060; 80 FR 76345; 80 FR 79414; 80 FR 80443; 81 FR 11642; 81 FR 15401; 81 FR 15404; 81 FR 16265; 81 FR 20433; 81 FR 20435; 81 FR 28136; 81 FR 44680; 81 FR 60117):

Larry Adams, Jr. (FL)

Donald Bierwirth, Jr. (CT)

Bryan Borrowman (UT)

Clifford L. Burruss (CA)

Kevin J. Cobb (PA)

Eugene Contreras (NM)

Levi R. Coutcher (WA)

Herman R. Dahmer (MD)

Jim L. Davis (NM)

Andrew S. Durward (IL)

Michael P. Eisenreich (MN)

James Esposito, Jr. (PA)

Daniel W. Eynon (OH)

Gerald W. Fox (PA)

Richard P. Frederiksen (WY)

Raul A. Gonzalez (CA)

Danny R. Gray (OK)

Keith J. Haaf (VA)

John C. Henricks (OH)

Louis E. Henry, Jr. (KY)

Michael J. Hoskins (KS)

Zion Irizarry (NV)

Kevin Jacoby (NJ)

Tommy R. Jefferies (FL)

Billy R. Jeffries (WV)

Lowell Johnson (MN)

John R. Knott, III (MN)

David G. Lamborn (ND)

Curtis M. Lawless (VA)

Raymond J. Mannarino (NY)

Herman Martinez (NM)

James McCleary (OH)

Joseph W. Meacham (MS)

Brandon J. Michalko (NY)

Michael E. Miles (IL)

Daniel I. Miller (PA)

Robert Mollicone (FL)

Josh D. Nichols (IL)

John E. Nichols (PA)

Willie L. Parks (CA)

Richard J. Pauxtis (OR)

Jerry L. Pettijohn (OK)

Paul D. Prillaman (VA)

Rafael Quintero (TX)

Ezequiel M. Ramirez (TX)

Kent S. Reining (IL)

Riland O. Richardson (GA)

Roy C. Rogers (WV)

Troy M. Ruhlman (PA)

Robert Schick (PA)

Mark A. Smalls (GA)

Scott C. Star (NJ)

Michael A. Terry (IN)

Clifford B. Thompson, Jr. (SC)

Hany A. Wagieh (NJ)

Virgil E. Walker (TX)

Norman J. Watson (NC)

Charles T. Whitehead (NC)

The drivers were included in docket numbers FMCSA-2003-16241; FMCSA-2003-16564; FMCSA-2005-22194; FMCSA-2005-22727; FMCSA-2005-23099; FMCSA-2007-0017; FMCSA-2007-0071; FMCSA-2007-27897; FMCSA-2009-0206; FMCSA-2009-0291; FMCSA-2011-0142; FMCSA-2011-0275; FMCSA-2011-0298; FMCSA-2011-0324; FMCSA-2011-0365; FMCSA-2011-0366; FMCSA-2013-0028; FMCSA-2013-0165; FMCSA-2013-0166; FMCSA-2013-0167; FMCSA-2013-0168; FMCSA-2013-0169; FMCSA-2013-0170; FMCSA-2013-0174; FMCSA-2015-0070; FMCSA-2015-0071; FMCSA-2015-0072; FMCSA-2015-0344; FMCSA-2015-0345; FMCSA-2015-0348. Their exemptions are applicable as of April 12, 2018, and will expire on April 12, 2020.

As of April 14, 2018, and in accordance with 49 U.S.C. 31136(e) and 31315, the following ten individuals have satisfied the renewal conditions for obtaining an exemption from the vision requirement in the FMCSRs for interstate CMV drivers (64 FR 54948; 64 FR 68195; 65 FR 159; 65 FR 20251; 67 FR 10475; 67 FR 17102; 69 FR 17267; 69 FR 8260; 71 FR 4194; 71 FR 5105; 71 FR 6824; 71 FR 6826; 71 FR 13450; 71 FR 16410; 71 FR 19600; 71 FR 19602; 73 FR 11989; 75 FR 1835; 75 FR 9482; 75 FR 13653; 77 FR 17107; 79 FR 18391; 81 FR 20435):

Nick D. Bacon (KY)

Mark A. Baisden (OH)

Curtis J. Crowston (ND)

Rupert G. Gilmore, III (AL)

Albert L. Gschwind (WI)

Walter R. Hardiman (WV)

Michael W. Jones (IL)

Matthew J. Konecki (MT)

Joseph S. Nix, IV (MO)

Robert V. Sloan (NC)

The drivers were included in docket numbers FMCSA-1999-6165; FMCSA-1999-6480; FMCSA-2005-23099; FMCSA-2005-23238; FMCSA-2006-23773; FMCSA-2009-0321. Their exemptions are applicable as of April 14, 2018, and will expire on April 14, 2020.

As of April 16, 2018, and in accordance with 49 U.S.C. 31136(e) and 31315, the following 14 individuals have satisfied the renewal conditions for obtaining an exemption from the vision requirement in the FMCSRs for interstate CMV drivers (81 FR 14190; 81 FR 39100):

William H. Brence (SD)

Jaime V. Cavazos (TX)

Jacob Dehoyos (NM)

Larry D. Fulk (MO)

Darrell K. Harber (MO)

Robert E. Holbrook (TN)

Maurice L. Kinney (PA)

Richard R. Krafczynski (PA)

Michael S. McHale (PA)

Darin P. Milton (TN)

Dakota J. Papsun (PA)

William J. Powell (KY)

Richard R. Vonderohe (IA)

William J. Watts (MT)

The drivers were included in docket number FMCSA-2015-0350. Their exemptions are applicable as of April 16, 2018, and will expire on April 16, 2020.

As of April 17, 2018, and in accordance with 49 U.S.C. 31136(e) and 31315, the following two individuals have satisfied the renewal conditions for obtaining an exemption from the vision requirement in the FMCSRs for interstate CMV drivers (77 FR 19749; 77 FR 22838; 79 FR 15794; 81 FR 20435): Gilbert M. Rosas, (AZ); Kim A. Shaffer, (PA).

The drivers were included in docket number FMCSA-2011-0378. Their exemptions are applicable as of April 17, 2018, and will expire on April 17, 2020.

As of April 18, 2018, and in accordance with 49 U.S.C. 31136(e) and 31315, the following 12 individuals have satisfied the renewal conditions for obtaining an exemption from the vision requirement in the FMCSRs for interstate CMV drivers (79 FR 10606; 79 FR 10607; 79 FR 10608; 79 FR 10609; 79 FR 10610; 79 FR 10611; 79 FR 22003; 81 FR 20435; 81 FR 28131):

Thomas R. Abbott (TN)

Thomas Benavidez, Jr. (ID)

Gary A. Budde (IL)

David L. Dykes (FL)

Daniel Fedder (IL)

Mark La Fleur (MD)

Dennis A. Lindner (MN)

Michael Nichols (GA)

Dino J. Pires (CT)

Anthony S. Poindexter (MD)

John B. Theres (IL)

Robert S. Waltz (ME)

The drivers were included in docket number FMCSA-2014-0002. Their exemptions are applicable as of April 18, 2018, and will expire on April 18, 2020.

As of April 23, 2018, and in accordance with 49 U.S.C. 31136(e) and 31315, the following two individuals have satisfied the renewal conditions for obtaining an exemption from the vision requirement in the FMCSRs for interstate CMV drivers (68 FR 74669; 69 FR 10503; 71 FR 6829; 73 FR 6242; 73 FR 15254; 73 FR 16950; 75 FR 20881; 77 FR 17115; 79 FR 17641; 81 FR 20435): Thomas R. Hedden, (IL); Douglas A. Mendoza, (MD).

The drivers were included in docket numbers FMCSA-2003-16564; FMCSA-2007-0071. Their exemptions are applicable as of April 23, 2018, and will expire on April 23, 2020.

As of April 27, 2018, and in accordance with 49 U.S.C. 31136(e) and 31315, the following six individuals have satisfied the renewal conditions for obtaining an exemption from the vision requirement in the FMCSRs for interstate CMV drivers (75 FR 9480; 75 FR 22176; 77 FR 17108; 79 FR 17642; 79 FR 17643; 81 FR 20435):

Chad L. Burnham (ME)

David A. Christenson (NV)

Paul K. Leger (NH)

Martin L. Reyes (IL)

Gerald L. Rush, Jr. (NJ)

Larry W. Winkler (MO)

The drivers were included in docket number FMCSA-2009-0011. Their exemptions are applicable as of April 27, 2018, and will expire on April 27, 2020.

As of April 28, 2018, and in accordance with 49 U.S.C. 31136(e) and 31315, the following nine individuals have satisfied the renewal conditions for obtaining an exemption from the vision requirement in the FMCSRs for interstate CMV drivers (81 FR 17237; 81 FR 52516):

Lee R. Boykin (TX)

Steven W. Day (MO)

Roger M. Dunaway (KY)

Hugo N. Guitterrez (IN)

William J. Kanaris (NY)

Ronnie L. McHugh (KS)

Donald P. Ruckinger (PA)

Eddie Walker (NC)

Trent Wipf (SD)

The drivers were included in docket number FMCSA-2015-0351. Their exemptions are applicable as of April 28, 2018, and will expire on April 28, 2020.

IV. Conditions and Requirements

The exemptions are extended subject to the following conditions: (1) Each driver must undergo an annual physical examination (a) by an ophthalmologist or optometrist who attests that the vision in the better eye continues to meet the requirements in 49 CFR 391.41(b)(10), and (b) by a certified Medical Examiner, as defined by 49 CFR 390.5, who attests that the driver is otherwise physically qualified under 49 CFR 391.41; (2) each driver must provide a copy of the ophthalmologist's or optometrist's report to the Medical Examiner at the time of the annual medical examination; and (3) each driver must provide a copy of the annual medical certification to the employer for retention in the driver's qualification file or keep a copy of his/her driver's qualification if he/her is self-employed. The driver must also have a copy of the exemption when driving, for presentation to a duly authorized Federal, State, or local enforcement official. The exemption will be rescinded if: (1) The person fails to comply with the terms and conditions of the exemption; (2) the exemption has resulted in a lower level of safety than was maintained before it was granted; or (3) continuation of the exemption would not be consistent with the goals and objectives of 49 U.S.C. 31136(e) and 31315.

V. Preemption

During the period the exemption is in effect, no State shall enforce any law or regulation that conflicts with this exemption with respect to a person operating under the exemption.

VI. Conclusion

Based upon its evaluation of the 113 exemption applications, FMCSA renews the exemptions of the aforementioned drivers from the vision requirement in 49 CFR 391.41(b)(10), subject to the requirements cited above. In accordance with 49 U.S.C. 31136(e) and 31315, each exemption will be valid for two years unless revoked earlier by FMCSA.

Issued on: April 2, 2018.
Larry W. Minor,
Associate Administrator for Policy.

[FR Doc. 2018-07185 Filed 4-6-18; 8:45 am]

BILLING CODE 4910-EX-P